DEPARTMENT OF COMMERCE

National Oceanic and Atmospheric Administration

RIN 0648-XD414

Gulf of Mexico Fishery Management Council (Council); Public Meeting

AGENCY: National Marine Fisheries Service (NMFS), National Oceanic and Atmospheric Administration (NOAA), Commerce.

ACTION: Notice of a public meeting (conference call).

SUMMARY: The Gulf of Mexico Fishery Management Council (Council) will hold a meeting of its Penaeid Shrimp Workshop Group via conference call.

DATES: The meeting will convene from 10 a.m. (E.S.T.) on Wednesday, August 13, 2014.

ADDRESSES: Meeting address: The meeting will be held via conference call; https://www4.gotomeeting.com/register/399307127.

Council address: Gulf of Mexico Fishery Management Council, 2203 North Lois Avenue, Suite 1100, Tampa, FL, 33607.

FOR FURTHER INFORMATION CONTACT: Dr. Morgan Kilgour, Fishery Biologist, Gulf of Mexico Fishery Management Council; telephone: (813) 348-1630; fax: (813) 348-1711; email: morgan.kilgour@gulfcouncil.org.

SUPPLEMENTARY INFORMATION: The items of discussion on the agenda are as follows:

Penaeid Shrimp Workshop agenda, Wednesday, August 13, 2014, 10 a.m. E.S.T. (9 a.m. C.S.T.)

1. Introduction to Council Charge—“To hold a workshop to evaluate the MSY and ABC control rule based benchmarks for penaeid shrimp”

2. Discussion of MSY and ABC Control Rule Based Benchmarks for Penaeid Shrimp Workshop

a. Data inputs needed

b. Required data and models for workshop

3. Discuss duration of in-person workshop in October and Finalize Dates

4. Other business

Adjourn

The Agenda is subject to change, and the latest version will be posted on the Council's file server, which can be accessed by going to the Council Web site at http://www.gulfcouncil.org and clicking on FTP Server under Quick Links. For meeting materials see folder “Penaeid Shrimp Workshop meeting—2014-08” on Gulf Council file server. To access the file server, the URL is https://public.gulfcouncil.org:5001/webman/index.cgi, or go to the Council's Web site and click on the FTP link in the lower left of the Council Web site (http://www.gulfcouncil.org). The username and password are both “gulfguest”.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: July 22, 2014.
Tracey L. Thompson,
Acting Deputy Director, Office of Sustainable Fisheries, National Marine Fisheries Service.

[FR Doc. 2014-17559 Filed 7-24-14; 8:45 am]

BILLING CODE 3510-22-P